ENVIRONMENTAL PROTECTION AGENCY

40 CFR Part 52

[EPA-R10-OAR-2013-0421; FRL-9907-22-Region 10]

Approval and Promulgation of State Implementation Plans: Alaska; Anchorage Carbon Monoxide Limited Maintenance Plan and State Implementation Plan Revisions

AGENCY: Environmental Protection Agency (EPA).

ACTION: Direct final rule.

SUMMARY: The State of Alaska (the State) submitted two State Implementation Plan (SIP) revisions to the Anchorage Transportation Control Program, Anchorage Carbon Monoxide (CO) Maintenance Plan. On September 20, 2011, the State submitted a SIP revision (2011 Submittal) that updated Anchorage's CO motor vehicle emissions budget (MVEB) in the Anchorage CO maintenance area using the EPA's Motor Vehicle Emission Simulator (MOVES) model. On April 22, 2013, the State submitted a SIP revision (2013 Submittal) to satisfy the Clean Air Act (CAA) section 175A(b) requirement for a second 10-year maintenance plan for the Anchorage CO maintenance area in the form of a limited maintenance plan (LMP). This LMP addresses maintenance of the CO National Ambient Air Quality Standards (NAAQS) for a second 10-year period, beyond redesignation of the area to attainment, through 2024. The EPA is taking direct final action to approve both the 2013 Submittal and portions of the 2011 Submittal that are not superseded by the 2013 Submittal. The EPA is approving these SIP revisions because the State has demonstrated that they are consistent with the CAA.

DATES: This rule is effective on May 2, 2014, without further notice, unless the EPA receives adverse comment by April 2, 2014. If the EPA receives adverse comment, we will publish a timely withdrawal in the Federal Register informing the public that the rule will not take effect.

ADDRESSES: Submit your comments, identified by Docket ID No. EPA-R10-OAR-2013-0421, by any of the following methods:

• www.regulations.gov: Follow the on-line instructions for submitting comments.

• Email: R10-Public_Comments@epa.gov

• Mail: Keith Rose, U.S. EPA Region 10, Office of Air, Waste and Toxics (AWT-107), 1200 Sixth Avenue, Suite 900, Seattle WA 98101

• Hand Delivery/Courier: U.S. EPA Region 10, 1200 Sixth Avenue, Suite 900, Seattle WA 98101. Attention: Keith Rose, Office of Air, Waste and Toxics, AWT-107. Such deliveries are only accepted during normal hours of operation and special arrangements should be made for deliveries of boxed information.

Instructions: Direct your comments to Docket ID No. EPA-R10-OAR-2013-0421. The EPA's policy is that all comments received will be included in the public docket without change and may be made available online at www.regulations.gov, including any personal information provided, unless the comment includes information claimed to be Confidential Business Information (CBI) or other information the disclosure of which is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the www.regulations.gov index. Although listed in the index, some information is not publicly available, e.g., CBI or other information the disclosure of which is restricted by statute. Certain other material, such as copyrighted material, is not placed on the Internet and will be publicly available only in hard copy. Publicly available docket materials are available either electronically in www.regulations.gov or in hard copy during normal business hours at the Office of Air, Waste and Toxics, U.S. EPA Region 10, 1200 Sixth Avenue, Seattle, WA 98101.

FOR FURTHER INFORMATION CONTACT: Keith Rose at: (206) 553-1949, rose.keith@epa.gov, or the above EPA Region 10 address.

SUPPLEMENTARY INFORMATION: Throughout this document wherever “we,” “us,” or “our” is used, it is intended to refer to the EPA. Information is organized as follows:

Table of Contents

I. What is the purpose of this action?

II. What is the background for this action?

III. What changes to the Alaska SIP were submitted for the EPA's approval?

IV. Evaluation of the Alaska Submittals

A. 2011 Submittal

B. 2013 Submittal

C. Revisions to 18 AAC 50.030

V. Transportation and General Conformity

VI. Final Action

VII. Statutory and Executive Order Reviews

I. What is the purpose of this action?

The EPA is taking direct final action to approve a CO LMP for the Anchorage CO maintenance area for the second 10-year maintenance period. The CO LMP, submitted by the State of Alaska to the EPA on April 22, 2013, is designed to keep the Anchorage CO maintenance area in attainment for the CO standard for a second 10-year period beyond redesignation of this area to attainment, through 2024.

The EPA is also taking direct final action to approve some revisions to the CO maintenance plan that were submitted on September 20, 2011. The 2011 Submittal updates the approved CO maintenance plan to reflect the use of the EPA's MOVES model. However, the Submittal includes sections of the plan that have been superseded by the 2013 Submittal that the EPA is approving in this action. The EPA is approving the most recently adopted and submitted sections of the plan. Further action on the earlier adopted versions of these sections included in the 2011 Submittal is not required because they are no longer in effect and have been superseded by the 2013 Submittal. These provisions are identified below.

II. What is the background for this action?

Anchorage, Alaska, was first designated a nonattainment area for CO and classified as moderate on January 27, 1978. The Municipality of Anchorage prepared a plan to attain the CO NAAQS by December 31, 1987, although Anchorage failed to achieve attainment by December 31, 1987. The CAA was amended in 1990 and the EPA designated Anchorage as a moderate nonattainment area for CO and required submission of a revised air quality plan to bring Anchorage into attainment by December 31, 1995 (56 FR 56712, November 6, 1991). The EPA approved the plan in 1995, however, two violations of the CO NAAQS in 1996 resulted in the EPA reclassifying Anchorage to serious with an attainment date of December 31, 2000 (61 FR 33676, June 12, 1998). The State submitted a new attainment plan on January 4, 2002, and on September 18, 2002, the EPA approved the Anchorage CO attainment plan (67 FR 58711).

On February 18, 2004, the State submitted a maintenance plan and a redesignation request for the Anchorage CO nonattainment area. The EPA approved the plan on June 23, 2004 (69 FR 34935). The maintenance plan relied on control strategies needed to assure maintenance of the CO NAAQS. The strategy focused on the Federal Motor Vehicle Emission Control Program, a motor vehicle inspection and maintenance (I/M) program, expanded wintertime transit service and promotion of engine pre-heaters.

The State subsequently submitted two revisions to the Alaska SIP relating to the I/M program in Anchorage: A March 29, 2002, SIP revision that contained minor revisions to the statewide I/M program (approved by the EPA on March 22, 2010, 75 FR 13436); and a September 29, 2010, SIP revision that discontinued the I/M program in Anchorage as an active control measure in the SIP and shifted it to a contingency measure (approved by the EPA on January 10, 2012, 77 FR 1414).

III. What changes to the Alaska SIP were submitted for the EPA's approval?

The 2011 Submittal updates the Federally-approved Anchorage CO maintenance plan with emissions estimates calculated with the EPA's MOVES motor vehicle emissions model. The updates include a reanalysis of the emissions inventory and maintenance demonstration as well as changes to the narrative. The 2011 Submittal replaces the Anchorage Transportation Control Program in its entirety and revises four sections of the appendices. The control strategies in the 2011 Submittal remain the same as in the most recent Federally-approved maintenance plan for the Anchorage maintenance area that was approved on January 10, 2012 (77 FR 1414).

The 2013 Submittal establishes a second 10-year CO maintenance plan for the Anchorage area, as required by CAA section 175A(b). This plan demonstrates that CO levels in the area will not exceed the CO NAAQS standard during its effective period and does not institute additional CO control measures. It revises three sections of the Anchorage Transportation Control Program and three sections of the appendices. The revised sections of the 2013 Submittal supersede those sections in the 2011 Submittal.

IV. Evaluation of the Alaska Submittals

A. 2011 Submittal

Alaska's 2011 Submittal updates the MVEB in the Anchorage CO maintenance plan with the MOVES model. The MOVES model is the EPA's state-of-the-art tool for estimating highway emissions. The model is based on analyses of millions of emission test results and considerable advances in the EPA's understanding of vehicle emissions. MOVES incorporates the latest emissions data, more sophisticated calculation algorithms, increased user flexibility, new software design and significant new capabilities relative to those reflected in the previous emissions model, MOBILE6.2. The EPA announced the release of MOVES2010 in March 2010 and explained that MOVES2010 should be used in SIP development as expeditiously as possible outside of California (75 FR 9411, March 2, 2010). In addition, the notice started a two-year grace period before MOVES2010 was required to be used in new regional emissions analyses for transportation. The EPA extended that grace period until March 2, 2013 (77 FR 11394, February 27, 2012).

Following is the EPA's evaluation of the sections of the 2011 Submittal we are taking action on in this rulemaking.

1. The Revised Emission Inventories

The 2011 Submittal revises only the on-road mobile source inventories but not the point, non-road and area source inventories for the 2007 base year and projections for the years 2009, 2011, 2012, 2013, 2015, 2019, and 2023. The control strategies in the 2011 Submittal remain the same as in the most recent maintenance plan for the Anchorage maintenance area that was approved on January 10, 2012 (77 FR 1414). The State updated the area-wide inventory and the Turnagain micro-inventory for the Anchorage maintenance area. The Turnagain micro-inventory represents a 9 km² area in a neighborhood in west Anchorage that surrounds the Turnagain monitoring station. The Turnagain monitor exhibits the highest CO concentrations of the current monitoring network for the Anchorage maintenance area and has shown approximately 20% higher values than the next highest site.

In the 2007 Anchorage area-wide inventory, motor vehicles accounted for 78.9% of the CO emissions on a typical 24-hour winter day. Motor vehicle start emissions accounted for 53.4% of those emissions. The total area-wide CO emissions are projected to increase by 6.7% by 2023, from 159.3 tons per day (tpd) in 2007 to 169.9 tpd in 2023. In the 2007 Turnagain micro-inventory, motor vehicles accounted for about 84.4% of the CO emissions on a typical 24-hour winter day with motor vehicle start emissions accounting for about 58.9% of those emissions. In the Turnagain micro-inventory area, total CO emissions are projected to decrease by about 5% through 2023, from 10.2 tpd in 2007 to 9.71 tpd in 2023.

2. The Revised Maintenance Demonstration

The State revised the maintenance demonstration in the Anchorage CO plan to include the emissions estimates calculated with MOVES. The methods used for the maintenance demonstration in the 2011 Submittal are consistent with those used previously and most recently approved by the EPA on January 10, 2012 (77 FR 1414). In the 2011 Submittal, the State used a probabilistic roll-forward approach to demonstrate maintenance with the CO NAAQS through 2023.

Based on the revised maintenance demonstration in the 2011 Submittal, the probability of maintaining the CO NAAQS was found to be 99% or greater for all years from 2008 through 2023. In addition, the State performed a sensitivity analysis that assumed three times higher rates of growth in vehicle travel than projected and a 2% per annum growth in wood burning. The probability of compliance using the higher rates was estimated to be greater than 98% through 2023.

The EPA concludes that the emission inventories and revised maintenance demonstration in the 2011 Submittal are consistent with EPA guidance and the Anchorage CO maintenance plan continues to demonstrate its purpose of maintaining the CO NAAQS through the year 2023. Therefore, the EPA is approving the 2011 Submittal with the exception of the following two sections in Volume II: Section III.B.4, Carbon Monoxide Monitoring Program and Section III.B.10, Motor Vehicle Emissions Budget, because these sections have been superseded by the State's 2013 Submittal and no further action by the EPA on these components of the submission is required.

Although the EPA previously found the MVEB to be adequate for conformity purposes (77 FR 8252, February 14, 2012), we are not approving the MVEB in the 2011 Submittal because it has been superseded by the 2013 Submittal. The EPA is also not approving 18 AAC 50 as discussed below in section IV.C.

B. 2013 Submittal

In its 2013 Submittal, the State revises the previous Anchorage Transportation Control Program (2011 Submittal) by adding a second ten-year maintenance plan as required by section 175A(b) of the CAA. The 2013 Submittal also revises the transportation conformity and CO monitoring program sections of the plan and certain appendices of the plan. The current Anchorage Transportation Control Program is comprised of both the 2011 and the 2013 Submittals. Following is the EPA's evaluation of the sections of the 2011 and 2013 Submittals we are acting on in this rulemaking which support our approval of the Anchorage second 10-year maintenance plan. (See the table “Anchorage 2011 and 2013 CO Maintenance Plan Submittals” in the docket for a complete list of sections in the Anchorage Transportation Control Program that the EPA is approving in this action.)

For the second 10-year maintenance plan, the State chose the LMP Option as described in an October 6, 1995, EPA memorandum from Joseph Paisie, the Group Leader of the Integrated Policy and Strategies Group, titled, “Limited Maintenance Plan Option for Nonclassifiable CO Nonattainment Areas.” To qualify for the LMP Option, the second highest CO value for an area, based on the eight consecutive quarters (two years of data) used to demonstrate attainment, must be at or below 7.65 parts per million (ppm), which is 85 percent of the 8-hour CO NAAQS. The EPA has determined that the LMP Option for CO is also available to all states as part of the 175A(b) update to the maintenance plans, regardless of the original nonattainment classification, or lack thereof. Thus, the EPA observes that although the Anchorage maintenance area was designated as a serious nonattainment area for the CO NAAQS, redesignation to attainment status in conjunction with meeting all requirements of the October 6, 1995, memorandum, allows the State to be eligible to submit a LMP as the update to its original maintenance plan per section 175A(b) of the CAA.

The requirements for the LMP Option and the EPA's evaluation of how each requirement has been met by the 2011 and 2013 Submittals are summarized below.

1. Base Year Emission Inventory

A maintenance plan must contain an attainment year emission inventory to identify a level of emissions in the area that is sufficient to attain the CO NAAQS. The Anchorage CO maintenance plan contains an emission inventory for the Anchorage maintenance area for the base year 2007. The emission inventory for the Anchorage maintenance area is a list, by source category, of the amount of CO directly emitted by area, point and mobile sources. Motor vehicle emission estimates for the 2007 base year inventory have been updated with the EPA MOVES vehicle emission model and were included in the 2011 Submittal which the EPA is approving in this action (see discussion above). The methods used to determine the Anchorage CO emission inventory are consistent with the EPA's most recent guidance on developing emission inventories. Because violations of the CO NAAQS are most likely to occur on winter weekdays, the inventory prepared is for a typical winter day. The table below shows the estimated tons of CO emitted per winter day by source category.

2007 Anchorage Emission Inventory, Main Source Category Subtotals
Main source category | CO emissions tons per winter day
Point Sources | 1.3
Motor Vehicles | 125.6
Anchorage International Airport Operations | 12.4
Wood Burning | 6.2
Space Heating-natural gas | 3.8
Merrill Field Airport | 0.7
Miscellaneous | 9.3
Total | 159.3

2. Demonstration of Maintenance

The 8-hour CO NAAQS is attained when the second highest 8-hour average CO concentration in a given year does not exceed a concentration of 9.0 ppm. The last monitored violation of the CO NAAQS in Anchorage occurred in 1996 and monitored CO levels have been steadily in decline ever since. The second highest 8-hour CO concentration in 2012 for the Anchorage maintenance area was 5.5 ppm, which is in attainment with the CO NAAQS.

The maintenance demonstration requirement is considered to be satisfied for areas that qualify for the LMP Option if the second highest 8-hour CO concentration during the most recent 8 quarters has been at or below 7.65 ppm (85 percent of the NAAQS). The EPA believes that if an area begins its maintenance period at or below 85 percent of the CO 8-hour NAAQS, the continued applicability of prevention of significant deterioration requirements, the control measures already in the SIP, and any Federal control measures in place, should all provide adequate assurance of maintenance over the 10-year maintenance period. With the LMP Option, there is no requirement to project CO emission inventories over the second 10-year maintenance period. The second highest 8-hour CO concentration for the Anchorage maintenance area during the most recent 8 quarters (2011-2012) was 5.5 ppm, which is below the LMP Option requirement of 7.65 ppm. Therefore, the EPA finds that Alaska has demonstrated that the Anchorage maintenance area qualifies for the LMP Option and has satisfied the maintenance demonstration requirement.

3. Monitoring Network and Verification of Continued Attainment

To verify the attainment status of the area over the maintenance period, the LMP must contain provisions for continued operation of an appropriate, EPA-approved monitoring network in accordance with 40 CFR Part 58. The 2013 Submittal includes a commitment to continue to operate an EPA-approved monitoring network in Anchorage. Alaska submits an annual air monitoring network plan to the EPA for approval, and the Alaska air monitoring network plan was most recently approved by the EPA on October 25, 2012.

4. Contingency Plan

Section 175A(d) of the CAA requires that a maintenance plan include contingency provisions that could be implemented if a maintenance area fails to attain the NAAQS. In the 2013 Submittal, Alaska committed to the same six contingency measures for the Anchorage maintenance area that were included in the 2011 Submittal. These contingency measures are summarized in the LMP as follows:

(1) Increasing public awareness and education, transit, carpool and vanpool promotion efforts;

(2) curtailing or limiting the use of fireplaces and woodstoves and other wood burning appliances when high CO is predicted;

(3) promoting an increase in transit ridership among commuters by offering reduced fares or free transit for employees of companies that contribute to the subsidy;

(4) reinstating the engine block heater installation subsidy;

(5) reinstating the ethanol-blended gasoline requirement; and

(6) reinstating the Inspection and Maintenance program.

As a result of its review, the EPA finds that the 2011 and 2013 Submittals adequately demonstrate that the Anchorage CO maintenance area will continue to maintain the CO NAAQS through 2024, and that these submittals contain all the necessary elements to qualify the Anchorage CO maintenance area for the LMP Option.

C. Revisions to 18 AAC 50.030

Both the 2011 and 2013 Submittals included revisions to the appendices to the Air Quality Control Program (Volume III, 18 AAC 50 Air Quality Control) by amending regulation 50.030 of title 18 of the Alaska Administrative Code. The EPA is taking no action on 18 AAC 50.030, State Air Quality Control Plan, which adopts by reference Volumes II and III of the State Air Quality Control Plan and other documents (as a matter of State law) because the referenced documents that form the basis for the 2011 and 2013 Submittals are being individually approved in this action. The EPA takes action directly, as appropriate, on the specific provisions in the State Air Quality Control Plan that have been submitted by the State, so it is unnecessary for the EPA to approve 18 AAC 50.030. The EPA is only approving those provisions related to the State's CO maintenance and limited maintenance plans that are specifically identified in the 2011 and 2013 Submittals and addressed in this action. The EPA is not approving any regulatory provision of 18 AAC 50.

V. Transportation and General Conformity

Transportation conformity is required by section 176(c) of the CAA. The EPA's conformity rule requires that transportation plans, programs and projects that are funded under 23 U.S.C. or the Federal Transit Act conform to SIPs. Conformity to a SIP means that transportation activities will not produce new air quality violations, worsen existing violations, or delay timely attainment of the NAAQS.

The transportation conformity rule (40 CFR Parts 51 and 93) and the general conformity rule (40 CFR Parts 51 and 93) apply to nonattainment areas and maintenance areas covered by an approved maintenance plan. Under either conformity rule, an acceptable method of demonstrating that a Federal action conforms to the applicable SIP is to demonstrate that expected emissions from the planned action are consistent with the emissions budget for the area.

While the EPA's LMP Option does not exempt an area from the need to affirm conformity, it explains that the area may demonstrate conformity without submitting an emissions budget. Under the LMP Option, emissions budgets are treated as essentially not constraining for the length of the maintenance period because it is unreasonable to expect that the qualifying areas would experience so much growth in that period that a violation of the CO NAAQS would result. Similarly, Federal actions subject to the general conformity rule could be considered to satisfy the “budget test” specified in section 93.158(a)(5)(i)(A) for the same reasons that the budgets are essentially considered to be unlimited.

While areas with maintenance plans approved under the LMP Option are not subject to the budget test, the areas remain subject to other transportation conformity requirements of 40 CFR Part 93, subpart A. Thus, the metropolitan planning organization (MPO) in the area or the State must document and ensure that:

a. Transportation plans and projects provide for timely implementation of SIP transportation control measures in accordance with 40 CFR 93.113;

b. Transportation plans and projects comply with the fiscal constraint element per 40 CFR 93.108;

c. The MPO's interagency consultation procedures meet applicable requirements of 40 CFR 93.105;

d. Conformity of transportation plans is determined no less frequently than every four years, and conformity of plan amendments and transportation projects is demonstrated in accordance with the timing requirements specified in 40 CFR 93.104;

e. The latest planning assumptions and emissions model are used as set forth in 40 CFR 93.110 and 40 CFR 93.111;

f. Projects do not cause or contribute to any new localized carbon monoxide or particulate matter violations, in accordance with procedures specified in 40 CFR 93.123; and

g. Project sponsors and/or operators provide written commitments as specified in 40 CFR 93.125.

The EPA confers regularly with the Anchorage Metropolitan Area Transportation System technical and policy committees, the Alaska Department of Environmental Conservation, the Alaska Department of Transportation & Public Facilities, the Federal Highway Administration and the Federal Transit Administration to review the Transportation Improvement Plan for the Anchorage maintenance area to determine if the area is meeting the transportation conformity requirements under 40 CFR Part 93, subpart A. The EPA finds that the Anchorage maintenance area currently meets the requirements of 40 CFR Part 93, subpart A.

VI. Final Action

The EPA is taking direct final action to approve the revised sections of the Anchorage Transportation Control Program (Volume II, Section III.B) in the Alaska SIP Submittal of September 20, 2011, that are not superseded by the Submittal of April 22, 2013.

In accordance with the requirements of the CAA, the EPA is approving the CO LMP (Limited Maintenance Plan for 2014-2024, Volume II, Section III.B.12 of the State Air Quality Control Plan, adopted February 22, 2013) for the second 10-year period for the Anchorage maintenance area in Alaska's SIP Submittal of April 22, 2013, because the State's LMP adequately demonstrates that the Anchorage maintenance area qualifies for the LMP Option and will maintain the CO NAAQS through the second 10-year maintenance period, and is consistent with EPA guidance.

VII. Statutory and Executive Order Reviews

Under the CAA, the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide the EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and the EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by May 2, 2014. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Carbon monoxide, Incorporation by reference, Intergovernmental relations, Reporting and recordkeeping requirements.

Authority: 42 U.S.C. 7401 et seq.

Dated: February 13, 2014.
Dennis J. McLerran,
Regional Administrator, Region 10.

For the reasons set out in the preamble, title 40, chapter I of the Code of Federal Regulations is amended as follows:

PART 52—[AMENDED]

1. The authority citation for Part 52 continues to read as follows:

Authority: 42 U.S.C. 7401 et seq.

Subpart C—Alaska

2. Section 52.73 is amended by adding paragraphs (a)(1)(iii) and (iv) to read as follows:

§ 52.73 Approval of plans.

(a) * * *

(1) * * *

(iii) The EPA approves the following revised sections of the Anchorage Transportation Control Program, Anchorage CO Maintenance Plan (Volume II, Section III.B) of the Alaska SIP Submittal adopted July 13, 2011, and submitted on September 20, 2011: Planning Process (Section III.B.1), Maintenance Area Boundary (Section III.B.2), Nature of the CO Problem—Causes and Trends (Section III.B.3), Transportation Control Strategies (Section III.B.5), Modeling and Projections (Section III.B.6), Contingency Plan (Section III.B.7), Anchorage Emergency Episode Plan (Section III.B.8), Assurance of Adequacy (Section III.B.9) and Redesignation Request (Section III.B.11). The EPA also approves the following revised sections of the Appendices (Volume III): Anchorage Assembly Resolution No. 2011-133 (Appendix III.B.1), Anchorage 2007 Carbon Monoxide Emission Inventory and 2007-2023 Emission Projections (Appendix III.B.3), Analysis of Probability of Complying with the National Ambient Air Quality Standard for Carbon Monoxide in Anchorage between 2007 and 2023 (Appendix III.B.6) and Affidavit of Oral Hearing (Appendix III.B.10).

(iv) The EPA approves the following revised sections of the Anchorage Transportation Control Program, Anchorage CO Limited Maintenance Plan (Volume II, Section III.B), of the Alaska SIP Submittal adopted February 22, 2013, and submitted on April 22, 2013: Carbon Monoxide Monitoring Program (Section III.B.4) Air Quality Conformity Procedures (Section III.B.10), Limited Maintenance Plan for 2014-2024 (Section III.B.12). In this action, the EPA also approves the following revised sections of the Appendices (Volume III): Anchorage Assembly Resolution No. 2013-20 (Appendix III.B.1) and Affidavit of Oral Hearing (Appendix III.B.10).

* * * * *

[FR Doc. 2014-04452 Filed 2-28-14; 8:45 am]

BILLING CODE 6560-50-P